DEPARTMENT OF THE INTERIOR

Fish and Wildlife Service

50 CFR Part 17

RIN 1018-AH94

Endangered and Threatened Wildlife and Plants; Designation of Critical Habitat for Blackburn's Sphinx Moth

AGENCY: Fish and Wildlife Service, Interior.

ACTION: Proposed rule; extension of comment period, and public hearing announcement.

SUMMARY: The U.S. Fish and Wildlife Service (Service) gives notice of a public hearing on the proposed critical habitat designation for Blackburn's sphinx moth. In addition, the comment period which originally closed on August 12, 2002, has been extended. The new comment period and hearing will allow all interested parties to submit oral or written comments on the proposal. We are seeking comments or suggestions from the public, other concerned agencies, the scientific community, industry, or any other interested parties concerning the proposed rule. Comments already submitted on the proposed rule need not be resubmitted as they will be fully considered in the final determination.

DATES: The comment period for this proposal now closes on December 30, 2002. Any comments received by the closing date will be considered in the final decision on this proposal. The public hearing will be held from 5:30 p.m. to 8:30 p.m. on Thursday, September 12, 2002, on the island of Maui, Hawaii. Prior to the public hearing, the Service will be available from 3:30 to 4:30 p.m. to provide information and to answer questions. The Service will also be available for questions after the hearing.

ADDRESSES: The public hearing will be held at the Maui Arts and Cultural Center Meeting Room, One Cameron Way, Kahului, Maui, Hawaii. Comments and materials concerning this proposal should be sent to the Field Supervisor, U.S. Fish and Wildlife Service, Pacific Islands Office, 300 Ala Moana Boulevard, Room 3-122, P.O. Box 50088, Honolulu, HI 96850. Comments and materials received will be available for public inspection, by appointment, during normal business hours at the above address.

FOR FURTHER INFORMATION CONTACT: Paul Henson, at the above address, (telephone 808/541-3441, facsimile 808/541-3470).

SUPPLEMENTARY INFORMATION: The public hearing for the proposed rule to designate critical habitat for Blackburn's sphinx moth announced in this Federal Register notice and the public hearing for the proposed designation of critical habitat for 61 plants from the islands of Maui and Kahoolawe announced in a separate Federal Register notice are scheduled for the same date, time, and location on Maui as a matter of convenience to the public. We will accept comments at this public hearing on the proposed designation of critical habitat for Blackburn's sphinx moth, as well as the proposed designation of critical habitat for 61 plants from the islands of Maui and Kahoolawe.

Background

On June 13, 2002, we published a proposed critical habitat rule for the Blackburn's sphinx moth listed under the Endangered Species Act of 1973, as amended (Act) (16 U.S.C. 1531 et. seq.), known historically from the islands of Hawaii, Kauai, Maui, Molokai, and Oahu, and known currently from the islands of Hawaii, Kahoolawe, and Maui (67 FR 40633). The original comment period closed on August 12, 2002. The comment period now closes on December 30, 2002. Written comments should be submitted to us (see ADDRESSES section).

A final listing rule, listing the Blackburn's sphinx moth as endangered, was published in the Federal Register on February 1, 2000 (65 FR 4770). In that final rule, we determined that critical habitat designation for the moth would be prudent, and we also indicated that we were not able to develop a proposed critical habitat designation for the species at that time due to budgetary and workload constraints.

On June 2, 2000, we were ordered by the U.S. District Court for the District of Hawaii (in Center for Biological Diversity v. Babbitt and Clark, Civ. No. 99-00603 (D. Haw.)) to publish the final critical habitat designation for Blackburn's sphinx moth by February 1, 2002. This was extended on October 2, 2001 to August 10, 2002. The plaintiffs and the Service have agreed on an extension. On August 21, 2002, the parties to the litigation anticipate filing a joint stipulation that, if approved would extend the final critical habitat deadline for this species to May 30, 2003. It would also extend another deadline and require other actions. This notice is being issued in anticipation of the court's approval. Should the court disapprove the stipulation, we may have to issue a further notice modifying the schedule and process for completing the final critical habitat determinations for these species. This proposed rule is in response to these requirements. Within eight separate units, a total of approximately 40,240 hectares (99,433 acres) on the Hawaiian Islands of Maui, Hawaii, Molokai, and Kahoolawe are proposed for designation as critical habitat for Blackburn's sphinx moth. For locations of these proposed units, please consult the proposed rule (67 FR 40633).

Section 4(b)(5)(E) of the Act requires that a public hearing be held if it is requested within 45 days of the publication of a proposed rule. In response to requests from various parties, we will hold a public hearing on the date and at the address described in the DATES and ADDRESSES sections above. An additional Federal Register notice will be published when a public hearing can be scheduled for the Island of Hawaii.

Anyone wishing to make an oral statement for the record is encouraged to provide a written copy of their statement and present it to us at the hearing. In the event there is a large attendance, the time allotted for oral statements may be limited. Oral and written statements receive equal consideration. There are no limits to the length of written comments presented at the hearing or mailed to us. Legal notices announcing the date, time, and location of the public hearing will be published in newspapers concurrently with the Federal Register notice.

Persons needing reasonable accommodations in order to attend and participate in the public hearing should contact Patti Carroll at 503/231-2080 as soon as possible. In order to allow sufficient time to process requests, please call no later than one week before the hearing date.

Information regarding this proposal is available in alternative formats upon request.

Comments from the public regarding this proposed rule are sought, especially regarding:

(1) The reasons why any particular area should or should not be designated as critical habitat for the Blackburn's sphinx moth, as critical habitat is defined by section 3 of the Act;

(2) Specific information on the amount, distribution, and quality of habitat for the species, and what habitat is essential to the conservation of the species and why;

(3) Land use practices and current or planned activities in the subject areas, and their possible impacts on proposed critical habitat;

(4) Any economic or other impacts resulting from the proposed designation of critical habitat, including any impacts on small entities, energy development, low-income households, and local governments;

(5) Economic and other potential values associated with designating critical habitat for the Blackburn's sphinx moth such as those derived from nonconsumptive uses (e.g., hiking, camping, birding, enhanced watershed protection, increased soil retention, “existence values”); and

(6) Information for use, under section 4(b)(2) of the Act, in determining if the benefits of excluding an area from critical habitat outweigh the benefits of specifying the area as critical habitat.

Extension of the comment period will enable us to respond to the request for a public hearing on the proposed action. The comment period on this proposal now closes on December 30, 2002. Written comments should be submitted to the Service office listed in the ADDRESSES section.

Author

The primary author of this notice is Mike Richardson (see ADDRESSES section).

Authority: The authority for this action is the Endangered Species Act of 1973 (16 U.S.C. 1531 et seq.).

Dated: August 16, 2002.
David P. Smith,
Acting Assistant Secretary for Fish and Wildlife and Parks.

[FR Doc. 02-21702 Filed 8-23-02; 8:45 am]

BILLING CODE 4310-55-P